DEPARTMENT OF DEFENSE

Office of the Secretary

[Transmittal Nos. 13-06]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-06 with attached transmittal, and policy justification.

Dated: May 1, 2013.
Aaron Siegel,
Alternate OSD Federal Register Liaison Officer, Department of Defense.

BILLING CODE 5001-06-P

Transmittal No. 13-06

Notice of Proposed Issuance of Letter of Offer Pursuant to Section 36(b)(1) of the Arms Export Control Act, as amended (U)

(i) Prospective Purchaser: North Atlantic Treaty Organization

(ii) Total Estimated Value:

* As defined in Section 47(6) of the Arms Export Control Act.

Major Defense Equipment * | $0 million.
Other | $300 million.
TOTAL | $300 million.

(iii) Description and Quantity or Quantities of Articles or Services under Consideration for Purchase: follow-on contractor logistics support for NATO Airlift Management Program C-17 aircraft, to include participation in the Global Reach Improvement Program, alternate mission equipment, publications and technical data, spare and repair parts, support equipment, personnel training and training equipment, U.S. Government and contractor technical assistance and other related elements of logistics support.

(iv) Military Department: Air Force (QAG).

(v) Prior Related Cases, if any: FMS case QAA-$301M-3Dec08.

(vi) Sales Commission, Fee, etc., Paid, Offered, or Agreed to be Paid: None.

(vii) Sensitivity of Technology Contained in the Defense Articles or Defense Services Proposed to be Sold: None.

(viii) Date Report Delivered to Congress: 16 April 2013.

POLICY JUSTIFICATION

NATO—C-17 Follow-On Support

An international consortium made up of allies in the North Atlantic Treaty Organization (NATO) together with Sweden and Finland, requests a possible sale of follow-on contractor logistics support for NATO Airlift Management Program C-17 aircraft, to include participation in the Global Reach Improvement Program, alternate mission equipment, publications and technical data, spare and repair parts, support equipment, personnel training and training equipment, U.S. Government and contractor technical assistance and other related elements of logistics support. The estimated cost is $300 million.

This proposed sale of contractor logistics support will contribute to the foreign policy and national security objectives of the United States by improving the military capabilities of NATO and furthering weapon system standardization and interoperability with U.S. forces. NATO allies have used C-17 aircraft to increase the capability, usability, and deployability of their forces.

The proposed sale of support will allow the NATO Airlift Management Program Office to continue to maintain and operate NATO C-17s in support of NATO missions.

The proposed sale of this equipment and support will not alter the basic military balance in the region.

This prime contractor will be The Boeing Company in Huntington Beach, California. There are no known offset agreements proposed in connection with this potential sale.

There will be no adverse impact on U.S. defense readiness as a result of this proposed sale.

[FR Doc. 2013-10630 Filed 5-3-13; 8:45 am]

BILLING CODE 5001-06-C